DEPARTMENT OF HOMELAND SECURITY

Federal Emergency Management Agency

44 CFR Part 67

[Docket ID FEMA-2011-0002; Internal Agency Docket No. FEMA-B-1223]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 13, 2012.

ADDRESSES: The corresponding preliminary Flood Insurance Rate Map (FIRM) for the proposed BFEs for each community is available for inspection at the community's map repository. The respective addresses are listed in the table below.

You may submit comments, identified by Docket No. FEMA-B-1223, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Town of Carrollton, Mississippi
Mississippi | Town of Carrollton | Big Sand Creek | Approximately 0.6 mile downstream of State Route 35 | None | +214
|  |  | Approximately 800 feet upstream of State Route 35 | None | +222
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Carrollton
Maps are available for inspection at the Town Hall, 701 Lexington Street, Carrollton, MS 38917.

Flooding Source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Montgomery County, Alabama, and Incorporated Areas
Audubon Ditch | At the upstream side of Norman Bridge Road | +185 | +184 | City of Montgomery.
| Approximately 600 feet upstream of Augusta Avenue | None | +209
Baldwin Slough Tributary 2 (backwater effects from Baldwin Slough) | At the Baldwin Slough confluence | None | +196 | City of Montgomery.
| At the downstream side of Halifax Lane | None | +196
Baskins Mill Creek | At the Little Sandy Creek confluence | None | +252 | Unincorporated Areas of Montgomery County.
| Approximately 3.3 miles upstream of Goodwyn Road | None | +280
Baskins Mill Creek Tributary 10 (backwater effects from Baskins Mill Creek) | At the Baskins Mill Creek confluence | None | +256 | Unincorporated Areas of Montgomery County.
| At the downstream side of Woodley Road | None | +256
Baskins Mill Creek Tributary 7 | At the Baskins Mill Creek confluence | None | +276 | Unincorporated Areas of Montgomery County.
| Approximately 0.4 mile upstream of the Baskins Mill Creek confluence | None | +278
Baskins Mill Creek Tributary 8 (backwater effects from Baskins Mill Creek) | At the Thompson Creek confluence | None | +264 | Unincorporated Areas of Montgomery County.
| Approximately 1,000 feet upstream of the Thompson Creek confluence | None | +264
Baskins Mill Creek Tributary 8_2 (backwater effects from Baskins Mill Creek) | At the Thompson Creek confluence | None | +263 | Unincorporated Areas of Montgomery County.
| Approximately 860 feet upstream of the Thompson Creek confluence | None | +263
Baskins Mill Creek Tributary 9 (backwater effects from Baskins Mill Creek) | At the Baskins Mill Creek confluence | None | +257 | Unincorporated Areas of Montgomery County.
| Approximately 640 feet upstream of the Baskins Mill Creek confluence | None | +257
Camp Creek | Approximately 1,400 feet downstream of Troy Highway (U.S. Route 231) | +202 | +203 | City of Montgomery.
| At the downstream side of Vaughn Road | +240 | +241
Camp Creek Tributary | Approximately 360 feet upstream of the Camp Creek confluence | +214 | +213 | City of Montgomery.
| Approximately 0.5 mile upstream of Bell Road | +226 | +225
Camp Creek Tributary 2 | At the Camp Creek confluence | +236 | +238 | City of Montgomery.
| Approximately 300 feet downstream of Vaughn Road | +238 | +239
Camp Creek Tributary 5 (backwater effects from Camp Creek) | Approximately 840 feet upstream of the Camp Creek confluence | +226 | +225 | City of Montgomery.
| Approximately 0.5 mile upstream of the Camp Creek confluence | None | +225
Caney Branch Tributary 8 (backwater effects from Caney Branch) | At the Caney Branch confluence | None | +174 | City of Montgomery.
| Approximately 2,000 feet upstream of the Caney Branch confluence | None | +174
Catoma Creek Tributary 1 Branch 4 (backwater effects from Catoma Creek Tributary 1) | Approximately 1.0 mile upstream of the Catoma Creek Tributary 1 confluence | +200 | +199 | City of Montgomery, Unincorporated Areas of Montgomery County.
| At the downstream side of Woodley Road | +200 | +199
Dry Creek | Approximately 0.9 mile upstream of Canty Road | None | +271 | Unincorporated Areas of Montgomery County.
| At the downstream side of Greenwood Road | None | +302
Dry Creek Tributary 2 (backwater effects from Dry Creek) | At the Dry Creek confluence | None | +281 | Unincorporated Areas of Montgomery County.
| Approximately 880 feet upstream of the Dry Creek confluence | None | +281
Dry Creek Tributary 4 (backwater effects from Dry Creek) | At the Dry Creek confluence | None | +281 | Unincorporated Areas of Montgomery County.
| Approximately 530 feet upstream of the Dry Creek confluence | None | +281
Dry Creek Tributary 5 (backwater effects from Dry Creek) | At the Dry Creek confluence | None | +278 | Unincorporated Areas of Montgomery County.
| Approximately 740 feet upstream of the Dry Creek confluence | None | +278
Genetta Ditch | Approximately 1.0 mile upstream of West South Boulevard (U.S. Route 80) | +175 | +173 | City of Montgomery.
| At the downstream side of South Jackson Street | None | +239
Greenbrier Creek | Approximately 600 feet upstream of the Olustee Creek confluence | None | +373 | Unincorporated Areas of Montgomery County.
| Approximately 0.6 mile upstream of Centerpoint Road | None | +390
Hog Creek | At the Pintlalla Creek confluence | None | +261 | Unincorporated Areas of Montgomery County.
| Approximately 1.1 miles upstream of Smiley Ferry Road | None | +297
Jackson Creek | Approximately 0.5 mile downstream of Gardner Road | None | +373 | Unincorporated Areas of Montgomery County.
| At the downstream side of Curtis Road | None | +455
Jackson Creek Tributary 1 (backwater effects from Jackson Creek) | At the Jackson Creek Tributary 1_1 confluence | None | +423 | Unincorporated Areas of Montgomery County.
| Approximately 580 feet upstream of the Jackson Creek Tributary 1_1 confluence | None | +423
Jackson Creek Tributary 1_1 | At the Jackson Creek confluence | None | +423 | Unincorporated Areas of Montgomery County.
| Approximately 1,100 feet upstream of the Jackson Creek confluence | None | +424
Jackson Creek Tributary 3 | At the Jackson Creek confluence | None | +407 | Unincorporated Areas of Montgomery County.
| Approximately 790 feet upstream of the Jackson Creek confluence | None | +408
Jackson Creek Tributary 4 | At the Jackson Creek confluence | None | +387 | Unincorporated Areas of Montgomery County.
| Approximately 1,800 feet upstream of the Jackson Creek confluence | None | +390
Jackson Creek Tributary 5 | At the Jackson Creek confluence | None | +378 | Unincorporated Areas of Montgomery County.
| Approximately 520 feet upstream of Gardner Road | None | +380
Jenkins Creek Tributary | Approximately 1,400 feet downstream of Chantilly Parkway (State Route 110) | None | +205 | City of Montgomery, Town of Pike Road, Unincorporated Areas of Montgomery County.
| Approximately 1,400 feet upstream of Wynlakes Boulevard | None | +229
Johnsons Creek | Approximately 1,300 feet upstream of the Mathews Slough confluence | +208 | +207 | Unincorporated Areas of Montgomery County.
| Approximately 2.7 miles upstream of Flowers Road | None | +258
Johnsons Creek Tributary 1 | At the Johnsons Creek confluence | None | +256 | Unincorporated Areas of Montgomery County.
| Approximately 1,200 feet upstream of the Johnsons Creek confluence | None | +257
Johnsons Creek Tributary 4 (backwater effects from Johnsons Creek) | Approximately 840 feet upstream of the Johnsons Creek confluence | None | +210 | Unincorporated Areas of Montgomery County.
| At the downstream side of Macon County Road | None | +210
Little Catoma Creek | Approximately 0.6 mile downstream of Troy Highway (U.S. Route 231) | +210 | +211 | Town of Pike Road, Unincorporated Areas of Montgomery County.
| Approximately 0.5 mile upstream of Hayneville Ridge Road (Old Hayneville Road) | None | +268
Little Sandy Creek | At the Baskins Mill Creek confluence | None | +252 | Unincorporated Areas of Montgomery County.
| Approximately 0.7 mile upstream of Goodwyn Road | None | +264
Little Sandy Creek Tributary 10 (backwater effects from Baskins Mill Creek) | At the Little Sandy Creek confluence | None | +262 | Unincorporated Areas of Montgomery County.
| Approximately 0.6 mile upstream of the Little Sandy Creek confluence | None | +262
Mathews Slough | Approximately 1,500 feet upstream of the Johnsons Creek confluence | +208 | +207 | City of Montgomery, Town of Pike Road, Unincorporated Areas of Montgomery County.
| Approximately 800 feet upstream of London Road | None | +261
Mathews Slough Tributary 1 (backwater effects from Mathews Slough) | At the Mathews Slough confluence | None | +260 | City of Montgomery, Unincorporated Areas of Montgomery County.
| Approximately 600 feet upstream of the Mathews Slough confluence | None | +260
Mathews Slough Tributary 10 | At the Mathews Slough confluence | None | +236 | Town of Pike Road, Unincorporated Areas of Montgomery County.
| Approximately 1,400 feet upstream of the Mathews Slough confluence | None | +237
Mathews Slough Tributary 11 | At the Mathews Slough confluence | None | +238 | Unincorporated Areas of Montgomery County.
| Approximately 0.4 mile upstream of the Mathews Slough confluence | None | +241
Mathews Slough Tributary 12 (backwater effects from Mathews Slough) | At the Mathews Slough confluence | None | +247 | Unincorporated Areas of Montgomery County.
| Approximately 820 feet upstream of the Mathews Slough confluence | None | +247
Mathews Slough Tributary 5 | At the Mathews Slough confluence | None | +228 | Town of Pike Road, Unincorporated Areas of Montgomery County.
| Approximately 1,500 feet upstream of Flowers Road | None | +230
Mathews Slough Tributary 7 | At the Mathews Slough confluence | +213 | +214 | Unincorporated Areas of Montgomery County.
| Approximately 0.7 mile upstream of the Mathews Slough confluence | +214 | +215
Mathews Slough Tributary 7_1 (backwater effects from Mathews Slough) | At the Mathews Slough Tributary 7 confluence | +214 | +215 | Unincorporated Areas of Montgomery County.
| Approximately 0.7 mile upstream of the Mathews Slough Tributary 7 confluence | +216 | +215
McDowell Creek | At the downstream side of Flowers Road | None | +238 | Unincorporated Areas of Montgomery County.
| Approximately 2 miles upstream of Plantation Bend Road | None | +268
McDowell Creek Tributary 1 (backwater effects from McDowell Creek) | At the McDowell Creek confluence | None | +256 | Unincorporated Areas of Montgomery County.
| Approximately 750 feet upstream of the McDowell Creek confluence | None | +256
McDowell Creek Tributary 2 (backwater effects from McDowell Creek) | At the McDowell Creek confluence | None | +247 | Unincorporated Areas of Montgomery County.
| At Lawson Road | None | +247
Millies Creek Tributary 2 (backwater effects from Millies Creek) | Approximately 1,610 feet upstream of the Millies Creek confluence | +229 | +228 | City of Montgomery, Town of Pike Road, Unincorporated Areas of Montgomery County.
| Approximately 2,000 feet upstream of the Millies Creek confluence | +229 | +228
Millies Creek Tributary 3 (backwater effects from Millies Creek) | Approximately 870 feet upstream of the Millies Creek confluence | +217 | +216 | City of Montgomery, Unincorporated Areas of Montgomery County.
| Approximately 0.5 mile upstream of the Millies Creek confluence | +217 | +216
Millies Creek Tributary 4 (backwater effects from Millies Creek) | Approximately 1.0 mile upstream of the Millies Creek confluence | +199 | +198 | City of Montgomery, Unincorporated Areas of Montgomery County.
| Approximately 1.3 miles upstream of the Millies Creek confluence | +199 | +198
Oliver Creek | Approximately 0.3 mile downstream of Countryside Lane | +174 | +173 | City of Montgomery.
| At the upstream side of I-85 | +238 | +237
Oliver Creek Tributary | At the Oliver Creek confluence | +184 | +185 | City of Montgomery.
| Approximately 300 feet upstream of Burbank Road | None | +221
Oliver Creek Tributary 2 (backwater effects from Oliver Creek) | At the Oliver Creek confluence | +220 | +225 | City of Montgomery.
| Approximately 800 feet upstream of the Oliver Creek confluence | +220 | +225
Olustee Creek | Approximately 700 feet upstream of the Greenbrier Creek confluence | None | +374 | Unincorporated Areas of Montgomery County.
| At the downstream side of State Highway 94 | None | +404
Olustee Creek Tributary 5 | At the Olustee Creek confluence | None | +394 | Unincorporated Areas of Montgomery County.
| Approximately 0.6 mile upstream of the Olustee Creek confluence | None | +395
Olustee Creek Tributary 5_1 | At the Olustee Creek Tributary 5 confluence | None | +395 | Unincorporated Areas of Montgomery County.
| Approximately 1,300 feet upstream of the Olustee Creek Tributary 5 confluence | None | +397
Olustee Creek Tributary 6 | At the Olustee Creek confluence | None | +393 | Unincorporated Areas of Montgomery County.
| Approximately 2,000 feet upstream of the Olustee Creek confluence | None | +395
Olustee Creek Tributary 6_1 | At the Olustee Creek Tributary 6 confluence | None | +394 | Unincorporated Areas of Montgomery County.
| Approximately 1,300 feet upstream of the Olustee Creek Tributary 6 confluence | None | +395
Panther Creek | Approximately 3 miles upstream of the Line Creek confluence | None | +219 | Town of Pike Road, Unincorporated Areas of Montgomery County.
| Approximately 4.5 miles upstream of the Line Creek confluence | None | +226
Pinchony Creek Tributary 4 (backwater effects from Pinchony Creek) | Approximately 200 feet upstream of Clover Field Road | None | +204 | Unincorporated Areas of Montgomery County.
| Approximately 1,500 feet upstream of Clover Field Road | None | +204
Pinchony Creek Tributary 4_1 (backwater effects from Pinchony Creek) | Approximately 200 feet upstream of Clover Field Road | None | +204 | Unincorporated Areas of Montgomery County.
| Approximately 1,100 feet upstream of Clover Field Road | None | +204
Pinchony Creek Tributary 8 (backwater effects from Pinchony Creek) | Approximately 1,220 feet upstream of the Pinchony Creek confluence | None | +219 | Unincorporated Areas of Montgomery County.
| At the downstream side of Tabernacle Road | None | +219
Pintlalla Creek | Approximately 1.3 miles downstream of County Highway 14 (Union Academy Ada Road) | None | +255 | Unincorporated Areas of Montgomery County.
| Approximately 300 feet upstream of County Highway 12 (West Hickory Grove Road) | None | +291
Pintlalla Creek Tributary 2 | At the Pintlalla Creek confluence | None | +285 | Unincorporated Areas of Montgomery County.
| Approximately 0.6 mile upstream of the Pintlalla Creek confluence | None | +291
Pintlalla Creek Tributary 24 | Approximately 0.5 mile upstream of the Pintlalla Creek confluence | +169 | +170 | Unincorporated Areas of Montgomery County.
| Approximately 1.8 miles upstream of the Pintlalla Creek confluence | +169 | +171
Pintlalla Creek Tributary 26 | At the Pintlalla Creek confluence | +163 | +164 | Unincorporated Areas of Montgomery County.
| Approximately 2 miles upstream of the Pintlalla Creek confluence | +164 | +165
Pintlalla Creek Tributary 3 | At the Pintlalla Creek confluence | None | +278 | Unincorporated Areas of Montgomery County.
| Approximately 1.1 miles upstream of the Pintlalla Creek confluence | None | +287
Pintlalla Creek Tributary 32 (backwater effects from Pintlalla Creek) | Approximately 0.5 mile upstream of the Pintlalla Creek confluence | None | +168 | Unincorporated Areas of Montgomery County.
| Approximately 0.8 mile upstream of the Pintlalla Creek confluence | None | +168
Pintlalla Creek Tributary 3_1 | At the Pintlalla Creek Tributary 3 confluence | None | +285 | Unincorporated Areas of Montgomery County.
| Approximately 0.6 mile upstream of the Pintlalla Creek Tributary 3 confluence | None | +287
Pintlalla Creek Tributary 4 (backwater effects from Pintlalla Creek) | At the Pintlalla Creek confluence | None | +274 | Unincorporated Areas of Montgomery County.
| Approximately 1,300 feet upstream of the Pintlalla Creek confluence | None | +274
Pintlalla Creek Tributary 5_2 | At the Hog Creek confluence | None | +286 | Unincorporated Areas of Montgomery County.
| Approximately 1,800 feet upstream of the Hog Creek confluence | None | +290
Pintlalla Creek Tributary 5_2_1 | At the Pintlalla Creek Tributary 5_2 confluence | None | +289 | Unincorporated Areas of Montgomery County.
| Approximately 600 feet upstream of the Hog Creek confluence | None | +291
Pintlalla Creek Tributary 5_3 | At the Hog Creek confluence | None | +273 | Unincorporated Areas of Montgomery County.
| Approximately 0.6 mile upstream of the Hog Creek confluence | None | +277
Pintlalla Creek Tributary 5_4 | At the Hog Creek confluence | None | +263 | Unincorporated Areas of Montgomery County.
| Approximately 2,000 feet upstream of the Hog Creek confluence | None | +264
Pintlalla Creek Tributary 6 (backwater effects from Pintlalla Creek) | At the Pintlalla Creek confluence | None | +267 | Unincorporated Areas of Montgomery County.
| Approximately 1,300 feet upstream of the Pintlalla Creek confluence | None | +267
Pintlalla Creek Tributary 7 | Approximately 800 feet upstream of the Pintlalla Creek confluence | None | +255 | Unincorporated Areas of Montgomery County.
| At the downstream side of County Highway 14 (Union Academy Ada Road) | None | +257
Sandy Creek | Approximately 1,250 feet downstream of Woodley Road | None | +247 | Unincorporated Areas of Montgomery County.
| Approximately 1.8 miles upstream of County Highway 39 (Mount Zion Road) | None | +338
Sandy Creek Tributary 10 | At the Sandy Creek confluence | None | +307 | Unincorporated Areas of Montgomery County.
| Approximately 0.7 mile upstream of the Sandy Creek confluence | None | +315
Sandy Creek Tributary 10_1 (backwater effects from Sandy Creek) | At the Sandy Creek Tributary 10 confluence | None | +310 | Unincorporated Areas of Montgomery County.
| Approximately 730 feet upstream of the Sandy Creek Tributary 10 confluence | None | +310
Sandy Creek Tributary 11 | At the Sandy Creek confluence | None | +318 | Unincorporated Areas of Montgomery County.
| Approximately 1,300 feet upstream of the Sandy Creek confluence | None | +322
Sandy Creek Tributary 12 (backwater effects from Sandy Creek) | At the Sandy Creek confluence | None | +330 | Unincorporated Areas of Montgomery County.
| Approximately 750 feet upstream of the Sandy Creek confluence | None | +330
Sandy Creek Tributary 13 (backwater effects from Sandy Creek) | At the Sandy Creek confluence | None | +335 | Unincorporated Areas of Montgomery County.
| Approximately 750 feet upstream of the Sandy Creek confluence | None | +335
Sandy Creek Tributary 2 (backwater effects from Sandy Creek) | At the Sandy Creek confluence | None | +290 | Unincorporated Areas of Montgomery County.
| Approximately 700 feet upstream of the Sandy Creek confluence | None | +290
Sandy Creek Tributary 3 | At the Sandy Creek confluence | None | +281 | Unincorporated Areas of Montgomery County.
| Approximately 1,100 feet upstream of the Sandy Creek confluence | None | +283
Sandy Creek Tributary 5 (backwater effects from Sandy Creek) | At the Sandy Creek confluence | None | +253 | Unincorporated Areas of Montgomery County.
| Approximately 1,800 feet upstream of the Sandy Creek confluence | None | +253
Sandy Creek Tributary 9 (backwater effects from Sandy Creek) | At the Sandy Creek confluence | None | +279 | Unincorporated Areas of Montgomery County.
| Approximately 700 feet upstream of the Sandy Creek confluence | None | +279
Sherwood Ditch | At the upstream side of East Haven Road | +219 | +221 | City of Montgomery.
| At the upstream side of I-85 | None | +268
Thompson Creek | Approximately 0.6 mile downstream of Goodwyn Road | None | +257 | Unincorporated Areas of Montgomery County.
| Approximately 1.3 miles upstream of Woodley Road | None | +279
Thompson Creek Tributary 4 | At the Thompson Creek confluence | None | +278 | Unincorporated Areas of Montgomery County.
| Approximately 1,400 feet upstream of the Thompson Creek confluence | None | +279
Three Mile Branch Tributary 1 (backwater effects from Three Mile Branch) | At the Three Mile Branch confluence | +180 | +179 | City of Montgomery.
| Approximately 1,500 feet upstream of the Three Mile Branch confluence | None | +179
Wares Ferry Ditch | At the upstream side of U.S. Route 231 | None | +177 | City of Montgomery.
| At the downstream side of Atlanta Highway | None | +233
Wares Ferry Ditch Left Fork | At the Wares Ferry Ditch confluence | None | +217 | City of Montgomery.
| Approximately 300 feet downstream of Atlanta Highway | None | +240
Wares Ferry Ditch Tributary | Approximately 500 feet downstream of Hilda Drive | +204 | +203 | City of Montgomery.
| Approximately 700 feet downstream of Jule Drive | None | +217
Whites Slough | At the downstream side of Narrow Lane Road | +189 | +187 | City of Montgomery, Unincorporated Areas of Montgomery County.
| Approximately 500 feet upstream of Vaughn Road | +240 | +244
Whites Slough Tributary 1 (backwater effects from Whites Slough) | Approximately 1,300 feet downstream of Carriage Brook Road | None | +234 | City of Montgomery.
| Approximately 200 feet downstream of Carriage Brook Road | None | +234
Wiley Creek | Approximately 1.6 miles upstream of the Catoma Creek confluence | +177 | +176 | City of Montgomery.
| At the downstream side of Hyundai Boulevard | +195 | +189
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Montgomery
Maps are available for inspection at 103 North Perry Street, Montgomery, AL 36104.
Town of Pike Road
Maps are available for inspection at 9575 Vaughn Road, Montgomery, AL 36064.
Unincorporated Areas of Montgomery County
Maps are available for inspection at 101 South Lawrence Street, Montgomery, AL 36104.
Dickinson County, Michigan (All Jurisdictions)
Menominee River | Approximately 1.1 miles downstream of Little Quinnesec Dam | None | +888 | City of Kingsford, Township of Breitung.
| At the Iron County boundary | None | +1118
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Kingsford
Maps are available for inspection at City Hall, 305 South Carpenter Avenue, Kingsford, MI 49802.
Township of Breitung
Maps are available for inspection at the Breitung Township Hall, 3851 Menominee Street, Quinnesec, MI 49876.
Macomb County, Michigan (All Jurisdictions)
Anchor Bay | Entire shoreline within community | +580 | +579 | City of New Baltimore, Township of Chesterfield, Township of Harrison.
Auvase Creek/Sutherland-Oemig Drain | Approximately 960 feet downstream of Jefferson Avenue | +580 | +579 | Township of Chesterfield.
| Approximately 850 feet downstream of Sugarbush Road | +580 | +579
Crapaud Creek | Approximately 860 feet downstream of Main Street | +580 | +579 | City of New Baltimore.
| Approximately 340 feet downstream of Perrin Street | +580 | +579
Fish Creek | Approximately 1,170 feet downstream of Callens Road | +580 | +579 | Township of Chesterfield.
| Approximately 1,585 feet upstream of Callens Road | +580 | +579
Salt River | Approximately 0.5 mile downstream of Jefferson Avenue | +580 | +579 | Township of Chesterfield.
| Approximately 70 feet downstream of 23 Mile Road | +580 | +579
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of New Baltimore
Maps are available for inspection at 36535 Green Street, New Baltimore, MI 48047.
Township of Chesterfield
Maps are available for inspection at 47275 Sugarbush Road, Chesterfield, MI 48047.
Township of Harrison
Maps are available for inspection at 38151 L'Anse Creuse Street, Harrison Township, MI 48045.
Midland County, Michigan (All Jurisdictions)
Tittabawassee River | Approximately 0.43 mile upstream of Pere Marquette Rail-Trail of Mid-Michigan | None | +631 | Township of Edenville, Township of Jerome, Village of Sanford.
| Approximately 1 mile upstream of Meridian Road | None | +638
Tobacco River | At the Tittabawassee River confluence | None | +638 | Township of Edenville.
| Approximately 0.85 mile upstream of the Tittabawassee River confluence | None | +640
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Township of Edenville
Maps are available for inspection at the Township Hall, 467 Moore Street, Edenville, MI 48620.
Township of Jerome
Maps are available for inspection at the Jerome Township Hall, 3243 North West River Road, Sanford, MI 48657.
Village of Sanford
Maps are available for inspection at the Village Hall, 106 Lincoln Street, Sanford, MI 48657.
Wayne County, Pennsylvania (All Jurisdictions)
Ariel Creek | Approximately 400 feet downstream of Goose Pond Road | +1256 | +1255 | Township of Lake, Township of Salem.
| Approximately 1,500 feet upstream of Lake Ariel Highway | None | +1434
Balls Creek | At the West Branch Delaware River confluence | None | +940 | Township of Buckingham, Township of Scott.
| Approximately 1.5 miles upstream of Carl Sands Road | None | +1277
Beaverdam Creek | At the Delaware River confluence | +733 | +734 | Township of Damascus.
| Approximately 4.1 miles upstream of Buckley Lane | None | +1158
Carley Brook | Approximately 200 feet upstream of the Lackawaxen River confluence | None | +957 | Borough of Honesdale, Township of Berlin, Township of Dyberry, Township of Oregon, Township of Texas.
| Approximately 0.5 mile upstream of Highhouse Road | None | +1150
Delaware River | At the Pike County boundary | +693 | +691 | Township of Berlin, Township of Buckingham, Township of Damascus, Township of Manchester.
| At the West Branch Delaware River confluence | +903 | +904
Equinunk Creek | At the Delaware River confluence | None | +871 | Township of Buckingham, Township of Manchester.
| Approximately 1,300 feet upstream of Crooked Creek Road | None | +1108
Holbert Creek | Approximately 400 feet upstream of the Lackawaxen River confluence | None | +942 | Township of Berlin, Township of Texas.
| Approximately 0.6 mile upstream of Garrett Hill Road | None | +1177
Little Equinunk Creek (backwater effects from Delaware River) | From the Delaware River confluence to approximately 1,230 feet upstream of the Delaware River confluence | +816 | +815 | Township of Manchester.
Middle Creek | Approximately 1.3 miles downstream of Middle Creek Road | None | +1145 | Township of Cherry Ridge, Township of Lake, Township of South Canaan.
| Approximately 0.5 mile upstream of Cortez Road | None | +1357
Mill Creek | Approximately 50 feet upstream of the Wallenpaupack Creek confluence | None | +1375 | Township of Dreher.
| Approximately 1.2 miles upstream of South Sterling Road | None | +1601
Moss Hollow Creek | Approximately 0.3 mile upstream of the West Branch Wallenpaupack Creek confluence | +1290 | +1289 | Township of Salem.
| Approximately 1.8 miles upstream of Ledgedale Road | None | +1383
South Branch Equinunk Creek | At the Equinunk Creek confluence | None | +908 | Township of Manchester.
| Approximately 100 feet upstream of the Equinunk Creek confluence | None | +910
Tributary to Middle Creek | At the Middle Creek confluence | None | +1205 | Township of South Canaan.
| Approximately 1.4 miles upstream of South Baker Road | None | +1396
Van Auken Creek | At the Lake Ladore confluence | None | +1369 | Borough of Waymart, Township of Canaan.
| Approximately 1,360 feet upstream of Roosevelt Highway | None | +1864
West Branch Delaware River | At the Delaware River confluence | +903 | +904 | Township of Buckingham, Township of Scott.
| At the Delaware County boundary | None | +952
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Honesdale
Maps are available for inspection at the Borough Municipal Building, 958 Main Street, Honesdale, PA 18431.
Borough of Waymart
Maps are available for inspection at the Borough Municipal Building, 116 South Street, Waymart, PA 18472.
Township of Berlin
Maps are available for inspection at the Berlin Township Municipal Building, 50 Milanville Road, Beach Lake, PA 18405.
Township of Buckingham
Maps are available for inspection at the Buckingham Township Municipal Building, 177 Travis Road, Starrucca, PA 18462.
Township of Canaan
Maps are available for inspection at the Canaan Township Municipal Building, 46 Gallik Road, Waymart, PA 18472.
Township of Cherry Ridge
Maps are available for inspection at the Cherry Ridge Township Municipal Building, 269 Spinner Road, Honesdale, PA 18431.
Township of Damascus
Maps are available for inspection at the Township Municipal Building, 60 Conklin Hill Road, Damascus, PA 18415.
Township of Dreher
Maps are available for inspection at the Dreher Township Municipal Building, 899 Main Street, Newfoundland, PA 18445.
Township of Dyberry
Maps are available for inspection at the Dyberry Township Municipal Building, 44 Cabin Corner, Honesdale, PA 18431.
Township of Lake
Maps are available for inspection at the Lake Township Municipal Building, 1270 Easton Turnpike, Lake Ariel, PA 18436.
Township of Manchester
Maps are available for inspection at the Manchester Township Municipal Building, 3881 Hancock Highway, Equinunk, PA 18417.
Township of Oregon
Maps are available for inspection at the Oregon Township Municipal Building, 474 Fox Hill Road, Honesdale, PA 18431.
Township of Salem
Maps are available for inspection at the Salem Township Municipal Building, 3 Savitz Road, Moscow, PA 18444.
Township of Scott
Maps are available for inspection at the Scott Township Municipal Building, 197 Sherman Road, Susquehanna, PA 18847.
Township of South Canaan
Maps are available for inspection at the South Canaan Township Municipal Building, 46 Lake Quinn Road, Waymart, PA 18472.
Township of Texas
Maps are available for inspection at the Texas Township Municipal Building, 320 Shady Lane, Honesdale, PA 18431.

(Catalog of Federal Domestic Assistance No. 97.022, “Flood Insurance.”)

Dated: October 17, 2011.
Sandra K. Knight,
Deputy Associate Administrator for Mitigation, Department of Homeland Security, Federal Emergency Management Agency.

[FR Doc. 2011-29197 Filed 11-10-11; 8:45 am]

BILLING CODE 9110-12-P